SMALL BUSINESS ADMINISTRATION

[Disaster Declaration #17041 and #17042; GEORGIA Disaster Number GA-00124]

Administrative Declaration Amendment of a Disaster for the State of Georgia

AGENCY: U.S. Small Business Administration.

ACTION: Amendment 1.

SUMMARY: This is an amendment of the Administrative declaration of a disaster for the State of Georgia dated 07/20/2021.

Incident: Severe Storms and Tornadoes.

Incident Period: 03/25/2021 through 03/26/2021.

DATES: Issued on 09/24/2021.

Physical Loan Application Deadline Date: 10/20/2021.

Economic Injury (EIDL) Loan Application Deadline Date: 04/20/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of an Administrative declaration for the State of Georgia, dated 07/20/2021 is hereby amended to extend the deadline for filing applications for physical damages as a result of this disaster to 10/20/2021.

All other information in the original declaration remains unchanged.

(Catalog of Federal Domestic Assistance Number 59008)

Isabella Guzman,
Administrator.

[FR Doc. 2021-21247 Filed 9-29-21; 8:45 am]

BILLING CODE 8026-03-P